DEPARTMENT OF THE TREASURY

Internal Revenue Service

26 CFR Part 1

[REG-135734-14]

RIN 1545-BM45

Rules Regarding Inversions and Related Transactions; Partial Withdrawal of Notice of Proposed Rulemaking

AGENCY: Internal Revenue Service (IRS), Treasury.

ACTION: Partial withdrawal of notice of proposed rulemaking.

SUMMARY: This document withdraws portions of a notice of proposed rulemaking (REG-135734-14) published on April 8, 2016, in the Federal Register (81 FR 20588). The withdrawn portions relate to exceptions to general rules addressing certain transactions that are structured to avoid the purposes of section 7874 of the Internal Revenue Code (Code).

DATES: Portions of the proposed rules published on April 8, 2016, in the Federal Register (81 FR 20588) are withdrawn as of January 18, 2017.

FOR FURTHER INFORMATION CONTACT: Joshua G. Rabon, (202) 317-6937.

SUPPLEMENTARY INFORMATION:

Background

On April 8, 2016, the Department of the Treasury (Treasury Department) and the IRS published in the Federal Register (81 FR 20588) proposed regulations (REG-135734-14), including in §§ 1.7874-7 and 1.7874-10, that address certain transactions that are structured to avoid the purposes of section 7874 of the Code. The regulations were proposed by cross-reference to temporary regulations (TD 9761) in the same issue of the Federal Register (81 FR 20858). In the Rules and Regulations section of this issue of the Federal Register, the Treasury Department and the IRS are amending certain aspects of the temporary regulations in §§ 1.7874-7T and 1.7874-10T. Accordingly, the Treasury Department and the IRS are issuing a notice of proposed rulemaking in the Proposed Rules section of this issue of the Federal Register that proposes rules in §§ 1.7874-7 and 1.7874-10 by cross-reference to the amended temporary regulations. This document withdraws the previously proposed regulations that are replaced by the notice of proposed rulemaking in the Proposed Rules section of this issue of the Federal Register.

List of Subjects in 26 CFR Part 1

Income taxes, Reporting and recordkeeping requirements.

Partial Withdrawal of a Notice of Proposed Rulemaking

Accordingly, under the authority of 26 U.S.C. 7805, §§ 1.7874-7(c)(2) and (h) and 1.7874-10(d)(2) and (i) of the notice of proposed rulemaking (REG-135734-14) published in the Federal Register on April 8, 2016 (81 FR 20588) are withdrawn.

John Dalrymple,
Deputy Commissioner for Services and Enforcement.

[FR Doc. 2017-00636 Filed 1-13-17; 4:15 pm]

BILLING CODE 4830-01-P